NATIONAL CREDIT UNION ADMINISTRATION

Renewal of Agency Information Collections for Comments Request: Proposed Collections

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before April 3, 2026 to be assured consideration.

ADDRESSES: Interested persons are invited to submit written comments on the information collection to Dacia Rogers, National Credit Union Administration, 1775 Duke Street, Alexandria, Virginia 22314, Suite 6070; Fax No. (703) 519-8161; or email at PRAComments@NCUA.gov.

FOR FURTHER INFORMATION CONTACT: Copies of the submission may be obtained by contacting Dacia Rogers at (703) 518-6547.

SUPPLEMENTARY INFORMATION:

OMB Number: 3133-0024.

Title: Mergers of Federally-Insured Credit Unions; Voluntary Termination or Conversion of Insured Status, 12 CFR 708b.

Type of Review: Revision of a currently approved collection.

Abstract: The Federal Credit Union Act requires written approval of the NCUA Board before one or more federally-insured credit unions merge or before a federally-insured credit union converts to nonfederal (private) share insurance or terminates federal share insurance and authorizes the NCUA Board to prescribe rules regarding mergers of federally-insured credit unions and changes in insured status. Part 708b of NCUA's rules sets forth the procedural and disclosure requirements for mergers of federally-insured credit unions, conversions from federal share insurance to nonfederal insurance, and federal share insurance terminations.

Affected Public: Private Sector: Not-for-profit institutions.

Estimated Total Annual Burden Hours: 5,352.

OMB Number: 3133-0163.

Title: Privacy of Consumer Financial Information, Regulation P, 12 CFR part 1016.

Type of Review: Extension of a previously approved collection.

Abstract: Regulation P (12 CFR part 1016) requires credit unions to disclose its privacy policies to customers as well as offer customers a reasonable opportunity to opt out-in whole or in part-of those policies to further restrict the release of their personal financial information to nonaffiliated third parties. Credit unions are required to provide an initial privacy notice to customers that is clear and conspicuous, an annual notice of the privacy policies and practices of the institution, a revised notice to customers if triggered by specific changes to the existing policy, and a notice of the right of the customer to opt out of the institution's information sharing practices. Consumers who choose to exercise their opt-out right document this choice by returning an opt-out form or other permissible method. This information collection is needed to evidence compliance with title V of the Gramm-Leach-Bliley Act.

Affected Public: Private Sector: Not-for-profit institutions.

Estimated Total Annual Burden Hours: 433,620.

OMB Number: 3133-0181.

Title: Registration of Mortgage Loan Originators.

Type of Review: Extension of a previously approved collection.

Abstract: The S.A.F.E. Act (12 U.S.C. 5101-5116) requires an employee of an institution regulated by a Federal banking agency who engages in the business of a residential mortgage loan originator to register with the Nationwide Mortgage Licensing System and Registry and obtain a unique identifier. Under CFPB regulations at 12 CFR part 1007, agency-regulated institutions must require their employees who act as residential mortgage loan originators to comply with the requirements to register and obtain a unique identifier and adopt and follow written policies and procedures.

Affected Public: Private Sector: Not-for-profit institutions.

Estimated Total Annual Burden Hours: 86,423.

OMB Number: 3133-0187.

Title: Reverse Mortgage Products—Guidance for Managing Risks.

Type of Review: Extension of a previously approved collection.

Abstract: The guidance will assist institutions in managing the compliance and risks associated with reverse mortgages. It will ensure that their risk management and consumer protection practices adequately address the compliance and risks raised by reverse mortgage lending.

Affected Public: Private Sector: Not-for-profit institutions.

Estimated Total Annual Burden Hours: 160.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2026-01933 Filed 1-30-26; 8:45 am]

BILLING CODE 7535-01-P